DEPARMENT OF AGRICULTURE

Grain Inspection, Packers and Stockyards Administration

Amendment to Certification of Idaho's Central Filing System

AGENCY: Grain Inspection, Packers and Stockyards Administration, USDA.

ACTION: Notice.

SUMMARY: In response to a request from the Secretary of State for the State of Idaho, the Grain Inspection, Packers and Stockyards Administration (GIPSA) has approved amendments to the State of Idaho's (Idaho) certified central filing system to permit Idaho to convert debtor social security and taxpayer identification numbers into approved unique identifiers. The proposed specific procedure whereby Idaho will automatically convert social security numbers and taxpayer identification numbers into ten-number unique identifiers has been reviewed and determined to permit the numerical searching of master lists while providing protection against identity theft.

DATES: Effective Date: July 15, 2014.

SUPPLEMENTARY INFORMATION: GIPSA administers the Clear Title program on behalf of the Secretary of Agriculture (Secretary). The Clear Title program is authorized by section 1324 of the Food Security Act of 1985, as amended (7 U.S.C. 1631), and requires that states implementing central filing system for notification of liens on farm products have such systems certified by the Secretary.

A listing of the states with certified central filing systems is available on the USDA/GIPSA Web site (http://www.gipsa.usda.gov). Farm products covered by a state's central filing system are also identified on the GIPSA Web site. States have the option to identify all farm products in a central filing system or specify only certain farm products. Idaho's central filing system covers specified farm products.

We originally certified the central filing system for Idaho on September 26, 1986. On May 26, 2010, Idaho requested its certification be amended to incorporate the use of an approved unique identifier other than a social security number, in accordance with the 2004 amendments to section 1324 of the Food Security Act (Pub. L. 108-447).

This notice announces GIPSA's approval of the amended certification for Idaho's central filing system. GIPSA has reviewed Idaho's procedures for automatically converting social security numbers and taxpayer identification numbers into ten-number unique identifiers and has determined that the system would permit the numerical searching of master lists of liens on farm products while providing protection against identity theft.

DATES: Effective Date: This notice is effective upon signature for good cause because it allows Idaho to immediately increase protection against identity theft through the use of unique identifiers. Furthermore, a change to the certification of approved central filing systems does not require public notice. Therefore, this notice may be made effective in less than 30 days after publication in the Federal Register without prior notice or public procedure.

Authority: 7 U.S.C. 1631, 7 CFR 2.22(a)(3)(v) and 2.81(a)(5), and 9 CFR 205.101(e).

Larry Mitchell,
Administrator, Grain Inspection, Packers and Stockyards Administration.

[FR Doc. 2014-16446 Filed 7-14-14; 8:45 am]

BILLING CODE 3410-KD-P